CIVIL RIGHTS COLD CASE RECORDS REVIEW BOARD

[Agency Docket Number: CRCCRRB-2025-0016-N]

Notice of Corrections of Formal Determination on Records Release

AGENCY: Civil Rights Cold Case Records Review Board.

ACTION: Notice.

SUMMARY: The Civil Rights Cold Case Records Review Board previously reviewed and made formal disclosure determinations on records related to nine civil rights cold case incidents in which the National Archives and Records Administration, the Department of Justice, and the Federal Bureau of Investigation proposed postponements. The Review Board recently conducted a secondary review of these records and made new formal determinations on postponements within records for six of the cases, which the Review Board assigned the following unique identifiers: 2023-001-002, 2023-002-001, 2023-002-007, 2023-002-008, 2024-003-006, and 2024-003-042. The Review Board made new formal determinations on 46 postponements. By issuing this notice, the Review Board complies with the Civil Rights Cold Case Records Collection Act of 2018 that requires the Review Board to publish in the Federal Register its determinations on the disclosure or postponement of records in the Collection no more than 14 days after the date of its decision.

FOR FURTHER INFORMATION CONTACT: Stephannie Oriabure, Chief of Staff, Civil Rights Cold Case Records Review Board, 1800 F Street NW, Washington, DC 20405, (771) 221-0014, info@coldcaserecords.gov.

SUPPLEMENTARY INFORMATION:

Incident identifier | Postponement identifier | Previous review board decision | New review board decision
2023-001-002 | 2024-FBI-01-0013 | Reject | Approve.
2023-001-002 | 2024-FBI-01-0018 | Reject | Approve.
2023-001-002 | 2024-FBI-01-0056 | Reject | Approve.
2023-001-002 | 2024-FBI-01-0061 | Reject | Approve.
2023-001-002 | 2024-FBI-01-0110 | Reject | Approve.
2023-001-002 | 2024-FBI-01-0115 | Reject | Approve.
2023-001-002 | 2024-FBI-01-0242 | Approve with changes | Approve.
2023-001-002 | 2024-FBI-01-0243 | Approve with changes | Approve.
2023-001-002 | 2024-FBI-01-0250 | Approve | Reject.
2023-001-002 | 2024-FBI-01-0251 | Approve | Reject.
2023-001-002 | 2024-FBI-01-0252 | Approve with changes | Approve.
2023-001-002 | 2024-FBI-01-0259 | Approve with changes | Approve.
2023-001-002 | 2024-FBI-01-0270 | Approve with changes | Approve.
2023-001-002 | 2024-FBI-01-0304 | Approve | Approve with changes.
2023-001-002 | 2024-FBI-01-0317 | Approve | Reject.
2023-001-002 | 2024-FBI-01-0318 | Approve | Reject.
2023-001-002 | 2024-FBI-01-0320 | Reject | Approve.
2023-001-002 | 2024-FBI-01-0321 | Reject | Approve.
2023-001-002 | 2024-FBI-01-0329 | Reject | Approve.
2023-001-002 | 2024-FBI-01-0342 | Reject | Approve.
2023-001-002 | 2024-FBI-01-0379 | Reject | Approve.
2023-001-002 | 2024-FBI-01-0384 | Reject | Approve.
2023-002-001 | 2024-FBI-02-0285 | Approve with changes | Approve.
2023-002-001 | 2024-FBI-02-0286 | Approve | Approve with changes.
2023-002-001 | 2024-FBI-02-0312 | Approve with changes | Approve.
2023-002-001 | 2024-FBI-02-0318 | Approve with changes | Approve.
2023-002-001 | 2024-FBI-02-0497 | Approve with changes | Approve.
2023-002-001 | 2024-FBI-02-0503 | Approve with changes | Approve.
2023-002-007 | 2024-FBI-02-0054 | Reject | Approve with changes.
2023-002-007 | 2024-FBI-02-0063 | Reject | Approve.
2023-002-007 | 2024-FBI-02-0067 | Reject | Approve.
2023-002-007 | 2024-FBI-02-0071 | Reject | Approve with changes.
2023-002-007 | 2024-FBI-02-0079 | Approve | Reject.
2023-002-007 | 2024-FBI-02-0080 | Approve | Reject.
2023-002-008 | 2024-FBI-02-0693 | Reject | Approve.
2023-002-008 | 2024-FBI-02-0805 | Reject | Approve.
2023-002-008 | 2024-FBI-02-0810 | Reject | Approve.
2023-002-008 | 2024-FBI-02-0861 | Reject | Approve.
2023-002-008 | 2024-FBI-02-0866 | Reject | Approve.
2023-002-008 | 2024-FBI-02-0947 | Reject | Approve.
2023-002-008 | 2024-FBI-02-0952 | Reject | Approve.
2023-002-008 | 2024-FBI-02-0988 | Reject | Approve.
2023-002-008 | 2024-FBI-02-0993 | Reject | Approve.
2024-003-006 | 2024-NARA-03-0041 | Approve with changes | Reject.
2024-003-042 | 2024-DOJ-03-0031 | Reject | Approve.
2024-003-042 | 2024-FBI-03-0131 | Reject | Approve.

Authority: Pub. L. 115-426, 132 Stat. 5489 (44 U.S.C. 2107).

Dated: May 30, 2025.
Stephannie Oriabure,
Chief of Staff.

[FR Doc. 2025-10152 Filed 6-3-25; 8:45 am]

BILLING CODE 6820-SY-P